DEPARTMENT OF THE TREASURY

Internal Revenue Service

26 CFR Part 1

[REG-142599-02]

RIN 1545-BB23

Guidance Regarding Mixed Use Output Facilities; Correction

AGENCY: Internal Revenue Service (IRS), Treasury.

ACTION: Correction to an advance notice of proposed rulemaking.

SUMMARY: This document contains a correction to an advance notice of proposed rulemaking that was published in the Federal Register on Monday, September 23, 2002 (65 FR 59767), relating to the issuance of tax-exempt bonds for the government use portion of an output facility that is used for both a government use and a private business use.

FOR FURTHER INFORMATION CONTACT: Rose M. Weber at (202) 622-3880 (not a toll-free number).

SUPPLEMENTARY INFORMATION:

Background

The advance notice of proposed rulemaking that is the subject of this correction is under sections 103 and 141 of the Internal Revenue Code.

Need for Correction

As published, the advance notice of proposed rulemaking contains errors that may prove to be misleading and are in need of clarification.

Correction of Publication

Accordingly, the publication of the notice of proposed rulemaking (REG-142599-02), that was the subject of FR Doc. 02-24138, is corrected as follows:

On page 59767, column 2, in the preamble under the paragraph heading “Background”, fifth paragraph, line 4, the language “690 (1986), 1986-3 (Vol. 4) C.B. 686 (the” is corrected to read “690 (1986), 1986-3 (Vol. 4) C.B. 690 (the”.

Cynthia E. Grigsby,
Chief, Regulations Unit, Associate Chief Counsel, (Income Tax and Accounting).

[FR Doc. 02-30141 Filed 11-26-02; 8:45 am]

BILLING CODE 4830-01-P